Proclamation 9624 of June 16, 2017

Father's Day, 2017

By the President of the United States of America

A Proclamation

Father's Day is a special occasion that reminds us to pause and thank the men in our lives who have taken on the responsibility of raising children. As sons and daughters, we recognize the love they have given and the sacrifices they have made, and we celebrate the indispensable role fathers play in our lives and communities.

Fathers have the ability and responsibility to instill in us core values we carry into adulthood. The examples they set and the lessons they impart about hard work, dedication to family, faith in God, and believing in ourselves establish the moral foundation for success that allows us to live up to our full potential. We remember those fatherly moments big and small—throwing a baseball, writing an essay, driving a car, walking down the aisle—that have shaped us, and we thank our dads for being there with a helping hand and an open heart.

Day in and day out, fathers put their children first, creating loving and supportive environments. Whether by birth, adoption, or foster care, today we honor the incredible fathers in our lives for all they have done and continue to do for us. Fathers inspire us to better ourselves and to be men and women of outstanding character. We recommit ourselves as individuals, families, and communities to promoting and supporting fatherhood, and take this day to express our love and appreciation for fathers across our country.

NOW, THEREFORE, I, DONALD J. TRUMP, President of the United States of America, in accordance with a joint resolution of the Congress approved April 24, 1972, as amended (36 U.S.C. 109), do hereby proclaim June 18, 2017, as Father's Day. I call on United States Government officials to display the flag of the United States on all Government buildings on Father's Day and invite State and local governments and the people of the United States to observe Father's Day with appropriate ceremonies.

IN WITNESS WHEREOF, I have hereunto set my hand this sixteenth day of June, in the year of our Lord two thousand seventeen, and of the Independence of the United States of America the two hundred and forty-first.

[FR Doc. 2017-13116

Filed 6-20-17; 11:15 am]

Billing code 3295-F7-P